NUCLEAR REGULATORY COMMISSION

Advisory Committee on the Medical Uses of Isotopes: Meeting Notice

AGENCY: U.S. Nuclear Regulatory Commission.

ACTION: Notice of meeting.

SUMMARY: The U.S. Nuclear Regulatory Commission will convene an open session teleconference meeting of the Advisory Committee on the Medical Uses of Isotopes (ACMUI) on October 5, 2004.

Purpose: This meeting will be held to discuss the working group's recommendations on a possible amendment of the current 10 CFR Part 35, to include adding required hours of didactic training to sections 35.55, 35.190, 35.390, and 35.290 for the alternate pathway. During this meeting, NRC staff, the ACMUI, and Agreement State personnel will engage in discussions pertaining to NRC staff's recommendations.

Date and Time for Meeting: The teleconference meeting will be held on Tuesday, October 5, 2004, from 1 p.m. to 3 p.m.

Public Participation: Any member of the public who wishes to participate in the teleconference discussion may contact Angela R. McIntosh using the contact information below.

Address for Public Meetings: U.S. Nuclear Regulatory Commission, Two White Flint North Building, 11545 Rockville Pike, Rockville, MD 20852-2738.

FOR FURTHER INFORMATION CONTACT: Angela R. McIntosh, telephone (301) 415-5030; e-mail arm@nrc.gov of the Office of Nuclear Material Safety and Safeguards, U.S. Nuclear Regulatory Commission, Washington, DC 20555-0001.

Conduct of the Meeting: Dr. Cerqueira, M.D., will chair the meeting. Dr. Cerqueira will conduct the meeting in a manner that will facilitate the orderly conduct of business. The following procedures apply to public participation in the meeting:

(1) Persons who wish to provide a written statement should submit a reproducible copy to Angela McIntosh, U.S. Nuclear Regulatory Commission, Two White Flint North, Mail Stop T8F5, Washington, DC 20555-0001. Hard copy submittals must be postmarked by September 29, 2004. Electronic submittals must be submitted by October 1, 2004. Any submittal must pertain to the topic on the agenda for the meeting.

(2) Questions from members of the public will be permitted during the meeting, at the discretion of the Chairman.

(3) The transcript and written comments will be available for inspection on NRC's Web site (http://www.nrc.gov) and at the NRC Public Document Room, 11555 Rockville Pike, Rockville, MD 20852-2738, telephone (800) 397-4209, on or about November 12, 2004. Minutes of the meeting will be available on or about December 17, 2004.

This meeting will be held in accordance with the Atomic Energy Act of 1954, as amended (primarily Section 161a); the Federal Advisory Committee Act (5 U.S.C. App); and the Commission's regulations in Title 10, U.S. Code of Federal Regulations, Part 7.

Dated at Rockville, Maryland, this 21st day of September, 2004.
For the Nuclear Regulatory Commission.
Andrew L. Bates,
Advisory Committee Management Officer.

[FR Doc. 04-21653 Filed 9-27-04; 8:45 am]

BILLING CODE 7590-01-P